ENVIRONMENTAL PROTECTION AGENCY

[EPA-HQ-OA-2014-0001; FRL-9915-00-OA]

Good Neighbor Environmental Board; Notification of Public Advisory Committee Teleconferences

AGENCY: Environmental Protection Agency (EPA).

ACTION: Notice of Public Advisory Committee Teleconferences.

SUMMARY: Pursuant to the Federal Advisory Committee Act, Public Law 92-463, notice is hereby given that the Good Neighbor Environmental Board (Board) will hold two separate public teleconferences. The first teleconference will take place on Wednesday, September 3, 2014 and the second on Tuesday, September 16, 2014. The teleconference held on September 3 will take place from 1:00-3:00 p.m. Eastern Standard Time. The teleconference being held on September 16 will take place from 11 a.m. to 3 p.m. Eastern Standard Time. Both teleconferences are open to the public. For further information regarding the teleconferences and background materials, please contact Ann-Marie Gantner at the number provided below.

Background: The Good Neighbor Environmental Board is a federal advisory committee chartered under the Federal Advisory Committee Act, Public Law 92-463. By statute, the Board is required to submit an annual report to the President and Congress on environmental and infrastructure issues along the U.S. border with Mexico.

Purpose of Meeting: The purpose of the September 3 call will be to discuss an advice letter on the proposed merger of the Border Environment Cooperation Commission and the North American Development Bank. The purpose of the September 16 teleconference will be to continue discussion on the Board's Sixteenth Report, which focuses on ecological restoration in the U.S.-Mexico border region.

General Information: The agenda and teleconference materials will be available at http://www.regulations.gov under Docket ID: EPA-HQ-OA-2014-0001. General information about the Board can be found on its Web site at http://www2.epa.gov/faca/gneb.

If you wish to make oral comments or submit written comments to the Board, please contact Ann-Marie Gantner at least five days prior to the teleconference. Written comments should be submitted at http://www.regulations.gov under Docket ID: EPA-HQ-OA-2014-0001.

Meeting Access: For information on access or services for individuals with disabilities, please contact Ann-Marie Gantner at (202) 564-4330 or email at gantner.ann-marie@epa.gov. To request accommodation of a disability, please contact Ann-Marie Gantner at least 10 days prior to the meeting to give EPA as much time as possible to process your request.

Dated: July 31, 2014.
Mark Joyce,
Acting Designated Federal Officer.

[FR Doc. 2014-18926 Filed 8-8-14; 8:45 am]

BILLING CODE 6560-50-P